EQUAL EMPLOYMENT OPPORTUNITY COMMISSION

[Agency Docket No: EEOC-2023-0005]

RIN: 3046-ZA02

Proposed Enforcement Guidance on Harassment in the Workplace

AGENCY: Equal Employment Opportunity Commission.

ACTION: Notice of availability and request for comment.

SUMMARY: The Equal Employment Opportunity Commission (“EEOC”) is announcing that its proposed “Enforcement Guidance on Harassment in the Workplace” is available for public comment.

DATES: Comments must be received on or before November 1, 2023. Please see the sections below entitled ADDRESSES and SUPPLEMENTARY INFORMATION for additional information on submitting comments.

ADDRESSES: You may submit comments, identified by docket number EEOC-2023-0005 or Regulatory Information Number (RIN) 3046-ZA02, by any of the following methods—please use only one method:

• Federal eRulemaking Portal: https://www.regulations.gov. Follow the instructions for submitting comments.

• Fax: 202-663-4114. Only comments of six or fewer pages will be accepted via FAX transmittal, in order to assure access to the equipment. Receipt of FAX transmittals will not be acknowledged, except that the sender may request confirmation of receipt by calling the Executive Secretariat staff at 202-921-2815 (voice), 1-800-669-6820 (TTY), or 1-844-234-5122 (ASL video phone).

• Mail: Raymond Windmiller, Executive Officer, Executive Secretariat, U.S. Equal Employment Opportunity Commission, 131 M Street NE, Washington, DC 20507.

• Hand Delivery/Courier: Raymond Windmiller, Executive Officer, Executive Secretariat, U.S. Equal Employment Opportunity Commission, 131 M Street NE, Washington, DC 20507.

Instructions: The Commission invites comments from all interested parties. All comment submissions must include the agency name and docket number (EEOC-2023-0005) or RIN (3046-ZA02) for this guidance. Comments need be submitted in only one of the above-listed formats. All comments received will be posted without change to https://www.regulations.gov, including any personal information you provide. However, the EEOC reserves the right to refrain from posting libelous or otherwise inappropriate comments, including those that contain obscene, indecent, or profane language; that contain threats or defamatory statements; that contain hate speech directed at race, color, sex, national origin, age, religion, disability, or genetic information; or that promote or endorse services or products.

Docket: For access to the docket to read background documents or comments received, go to https://www.regulations.gov and search for “EEOC-2023-0005” or “RIN 3046-ZA02.” The received comments also will be available for review at the Commission's library, 131 M Street NE, Suite 4NW08R, Washington, DC 20507, between the hours of 9:30 a.m. and 5:00 p.m., from November 1, 2023 until the Commission publishes the guidance in final form. You must make an appointment with library staff to review the comments in the Commission's library.

FOR FURTHER INFORMATION CONTACT: Lynn Davenport, Assistant Legal Counsel, lynn.davenport@eeoc.gov; Office of Legal Counsel, 202-856-7072 (voice), 1-800-669-6820 (TTY).

SUPPLEMENTARY INFORMATION:

Background

The EEOC is seeking public comments on all aspects of its proposed “Enforcement Guidance on Harassment in the Workplace” (proposed guidance) pursuant to 29 CFR part 1695. The proposed guidance presents a legal analysis of standards for harassment and employer liability applicable to claims of harassment under the equal employment opportunity statutes enforced by the Commission. The Commission posted and requested public input on a proposed guidance on workplace harassment in January 2017, which was not finalized.

The contents of the final guidance document will not have the force and effect of law and are not meant to bind the public in any way. The document is intended only to provide clarity to the public regarding Commission policies and existing requirements under the law. The standards discussed under EEOC-enforced laws will not necessarily apply to allegations of unlawful harassment under other Federal laws or under State or local laws.

For the Commission:
Charlotte A. Burrows,
Chair.

[FR Doc. 2023-21644 Filed 9-29-23; 8:45 am]

BILLING CODE 6570-01-P